DEPARTMENT OF TRANSPORTATION

Federal Aviation Administration

14 CFR Parts 3, 21, 43, 60, 61, 63, 65, 67, 89, 107, 111, 120, 121, 139, 142, 145, 402, and 413

[Docket No.: FAA-2024-0021; Amendment Nos. 3-4, 21-110, 43-64, 60-9, 61-160, 63-48, 65-67, 67-23, 89-2, 107-14, 111-3, 120-4, 121-394, 139-29, 142-12, 145-33, 402-1, and 413-14]

RIN 2120-AL84

Falsification, Reproduction, Alteration, Omission, or Incorrect Statements

AGENCY: Federal Aviation Administration (FAA), Department of Transportation (DOT).

ACTION: Final rule.

SUMMARY: FAA is amending, restructuring, and consolidating the falsification regulations presently located throughout title 14 of the Code of Federal Regulations (CFR). Regarding 14 CFR chapter I, this rule eliminates inconsistencies among the various falsification regulations and associated sanctions; consolidates all existing falsification regulations into one part under 14 CFR chapter I to standardize the existing falsification regulations; and ensures that falsification-related conduct not addressed by pertinent current regulations is covered. This rule also creates a falsification prohibition applicable to the regulations governing commercial space transportation.

DATES: Effective November 3, 2025.

ADDRESSES: For information on where to obtain copies of rulemaking documents and other information related to this final rule, see “How to Obtain Additional Information” in the SUPPLEMENTARY INFORMATION section of this document.

FOR FURTHER INFORMATION CONTACT: Jessica E. Kabaz-Gomez, Senior Attorney, Aviation Litigation Division, AGC-300, Federal Aviation Administration, Office of the Chief Counsel, 800 Independence Avenue SW, Washington, DC 20591; email jessica.kabaz-gomez@faa.gov.

SUPPLEMENTARY INFORMATION:

Table of Contents

I. Executive Summary

A. Purpose of the Regulatory Action

B. Changes Made in This Final Rule Since the NPRM

C. Summary of the Costs and Benefits

II. Authority for This Rulemaking

III. Background

A. Summary of the NPRM

B. General Overview of Comments

C. Differences Between the NPRM and the Final Rule

IV. Discussion of Comments and the Final Rule

A. Revision of the Proposed “Incorrect Statement, or Omission” Prohibitions in Sections 3.405 and 402.5

B. Non-Applicability of New §§ 3.403 and 3.405 to 14 CFR Chapter 1, Subchapter I

C. Relationship Between the Revisions and FAA's Proposed Rulemaking, “Disclosure of Safety Critical Information”

D. Delineation of Specific Regulations in Part 3

E. Definition of “Document in any Format”

F. Use of the Word “Any”

G. Whether It Is Necessary To Clarify in § 3.403(a) That Fraudulent Conduct Is Intentional

H. Applicability of the Final Rule to 14 CFR Part 68

I. Applicability of the Final Rule to Statements Made on FAA Form 8130-3

J. Technical Amendment to 14 CFR 3.1

V. Regulatory Notices and Analyses

A. Regulatory Evaluation

B. Regulatory Flexibility Act

C. International Trade Impact Assessment

D. Unfunded Mandates Assessment

E. Paperwork Reduction Act

F. International Compatibility

G. Environmental Analysis

VI. E.O Determinations

A. E.O. 13132, Federalism

B. E.O. 13175, Consultation and Coordination With Indian Tribal Governments

C. E.O. 13211, Regulations That Significantly Affect Energy Supply, Distribution, or Use

D. E.O. 13609, Promoting International Regulatory Cooperation

VII. Additional Information

A. Electronic Access and Filing

B. Small Business Regulatory Enforcement Fairness Act

I. Executive Summary

A. Purpose of the Regulatory Action

FAA and other stakeholders rely on complete and accurate information in safety-related records. Indeed, FAA and other stakeholders make critical safety-related decisions based on the information, such as in FAA-required records, and rely necessarily on the veracity of that information. When a person provides falsified information or omits material information from records, that person creates a threat to aviation safety by inhibiting the ability of FAA and other stakeholders to make critical safety-related decisions. Falsification regulations promote the integrity of information necessary to ensure aviation safety. They also serve as a basis for appropriate action when a person engages in falsification-related conduct.

The final rule affects applicable parts in 14 CFR chapters I and III. Falsification prohibitions prior to this final rule were found in 14 CFR chapter I, parts 3, 21, 43, 60, 61, 63, 65, 67, 89, 107, 111, 120, 121, 139, 142, and 145. The final rule removes the existing falsification regulations from these parts, except part 3, and consolidates them in a new subpart in part 3.¹ The amendments to part 3 create standardized falsification proscriptions applicable to subchapter A (except parts 1 and 3), subchapter C (except part 39), subchapter D, subchapter E (except parts 71 and 73), subchapter F (except parts 95 and 97), subchapter G (except part 110), subchapter H, and subchapter K (except parts 185, 187, 189, and 193). Accordingly, the amendments to part 3 also apply to those parts of 14 CFR chapter I that do not currently have falsification regulations, but for which such regulations are warranted. Those parts are 5, 23, 25, 26, 27, 29, 31, 33, 34, 35, 36, 45, 47, 48, 49, 68, 77, 91, 93, 99, 101, 103, 105, 117, 119, 125, 129, 133, 135, 136, 137, 141, 147, and 183. The amendments to part 3 will also apply to any new parts FAA adds to the preceding list of subchapters.

The amendments in this final rule also remove the existing falsification regulations located in 14 CFR 413.17(c) and create a new part 402 containing a falsification prohibition applicable to 14 CFR chapter III, subchapter C. Subchapter C consists of parts 413, 414, 415, 417, 420, 431, 433, 435, 437, 440, 450, and 460. New part 402 will also apply to any subsequent new parts FAA adds to Subchapter C.

The amendments in part 3 and new part 402 proscribe: (1) intentionally false or fraudulent statements; (2) productions, reproductions, or alterations for fraudulent purpose; and (3) knowingly omitting or causing to be omitted a material fact. They provide a means to address incorrect statements. Also, the final rule standardizes sanctions for violations of the falsification regulations under 14 CFR, chapters I and III, cited in this final rule.

B. Changes Made in This Final Rule Since the NPRM

FAA has made relatively minimal changes to its proposal in this final rule. The changes have been made in response to comments received. First, FAA has revised the incorrect statement and omission prohibitions in proposed §§ 3.405 and 402.5 to align with the structure of the current incorrect statement prohibitions found in 14 CFR 60.33(c) and 67.403(c). As a result, the revision narrows the scope of sanctions for incorrect statements or omissions to allow for an FAA action against the issuance (e.g., approval, acceptance, certificate) that is related to the incorrect statement. In addition, this rulemaking contains a definition of “document in any format” to clarify that the phrase includes documents (electronic or physical), and also other tangible items, such as data plates or marked parts.

C. Summary of the Costs and Benefits

Falsification regulations promote aviation and commercial space safety by incentivizing participants in the National Aerospace System to provide accurate and truthful information in safety-related records. The final rule benefits the safety of the public by ensuring that information made, kept, or used to show compliance with regulatory requirements or provided to FAA is accurate and complete. The final rule also benefits private industry by standardizing sanction provisions and providing consistent sanction determinations. Additional benefits to private industry include a more reliable aviation system.

FAA has evaluated the cost impacts to the stakeholders affected by this final rule and does not anticipate any new cost impact to aviation and space industries or FAA.

II. Authority for This Rulemaking

FAA's authority to issue rules on aviation safety is found in Title 49 of the United States Code. Subtitle I, Section 106 describes the authority of FAA Administrator. Subtitle VII, Aviation Programs, describes in more detail the scope of the Agency's authority.

With respect to 14 CFR chapter I, this rulemaking is issued under 49 U.S.C. 44701(a)(5), which establishes the authority of the Administrator to prescribe regulations and minimum standards for other practices, methods, and procedures the Administrator finds necessary for safety in air commerce and national security. It is also issued under 49 U.S.C. 44702-44709, which prescribe the Administrator's authority to issue different types of certificates to various individuals and entities and to amend, modify, suspend, or revoke those certificates as appropriate. This final rule is within the scope of these sections because it establishes new falsification regulations that consolidate existing falsification regulations into one part under 14 CFR chapter I that standardizes the existing falsification regulations and covers falsification-related conduct that is not, but should be, addressed by current pertinent regulations. This final rule also falls within the scope of 49 U.S.C. 46301, which prescribes FAA's authority to assess civil penalties, because it authorizes the assessment of civil penalties for noncompliance with the general falsification provision.

With respect to 14 CFR chapter III, this rulemaking is issued under the authority described in the Commercial Space Launch Act of 1984, as amended and recodified at 51 U.S.C. 50901-50923 (the Act). The Act authorizes DOT to oversee, investigate, license, and regulate commercial launch and reentry activities and the operation of launch and reentry sites as carried out by U.S. citizens or within the United States. See 51 U.S.C. 50904, 50905. The Act directs DOT to exercise this responsibility consistent with public health and safety, safety of property, and the national security and foreign policy interests of the United States. See 51 U.S.C. 50901. This authority has been delegated to FAA's Associate Administrator for Commercial Space Transportation. See 14 CFR 401.3.

The regulations fall within the scope of 51 U.S.C. 50901-50923 because they establish comprehensive falsification proscriptions that currently do not exist in 14 CFR chapter III that promote the integrity of the information FAA relies on and serve as a basis for regulatory action as appropriate, which is essential to FAA's statutory responsibility under the Act. The rulemaking is within the scope of 51 U.S.C. 50908 because this section authorizes FAA, under delegated authority from the Secretary of Transportation, to modify, suspend, or revoke a license issued or transferred under 51 U.S.C. Subtitle V, chapter 509. It is within the scope of 51 U.S.C. 50917 because it authorizes FAA, under delegated authority from the Secretary of Transportation, to assess a civil penalty for a violation of chapter 509, a regulation prescribed under chapter 509, or any term of a license issued or transferred under chapter 509.

III. Background

A. Summary of the NPRM

On February 8, 2024, FAA published a notice of proposed rulemaking (NPRM) titled “Falsification, Reproduction, Alteration, Omission, or Incorrect Statements.” ² The NPRM described the historical development of FAA's falsification regulations and the proposed changes. It provided background on the types of conduct proscribed under the prior falsification regulations and identified those regulations by section.³ In addition, the NPRM identified the regulations that contained a sanction provision for falsification.⁴

FAA implemented the first of its falsification regulations in 1965.⁵ Since then, the agency has implemented various falsification regulations, most recently in 2021.⁶ The NPRM explained how the piecemeal publication of falsification regulations has been problematic and highlighted two issues that required remedies: (1) the types of conduct proscribed by the falsification regulations and prescribed sanctions referenced in the various falsification regulations were not consistent across the existing falsification regulations; and (2) many 14 CFR parts lacked a falsification prohibition, but warranted one.⁷

The NPRM proposed to amend and reorganize the current falsification regulations to create uniform and comprehensive falsification regulations for the applicable parts of 14 CFR chapter I and across 14 CFR chapter III, subchapter C.⁸ The proposal described how the regulatory amendments would standardize the proscribed conduct and expand the proscription to the pertinent parts of 14 CFR chapters I and III as appropriate, and how those amendments would standardize sanction provisions.⁹ The 60-day comment period for the NPRM closed on April 8, 2024.

B. General Overview of Comments

FAA received submissions in response to the NPRM from thirteen commenters: eight industry associations and five individuals. Two individual commenters supported the proposal with no changes suggested; nine commenters, including the eight industry associations and one individual, supported the rule with suggested changes, one individual opposed the proposal as it related to 14 CFR part 68, and one individual's comment was out of scope. The industry associations that submitted comments were Airlines for America (A4A); Aerospace Industries Association of Brazil; Aircraft Owners and Pilot Association (AOPA); Air Line Pilots Association, International (ALPA); Aeronautical Repair Station Association (ARSA) (in conjunction with Aerospace Industries Association, Aircraft Electronics Association, Cargo Airline Association, and National Air Carrier Association); Aviation Repair Resources, Inc.; Modification and Replacement Parts Association (MARPA); and Aviation Suppliers Association (ASA).

C. Differences Between the NPRM and the Final Rule

As previously stated, FAA has made relatively minimal changes to its proposal in this final rule. One item that FAA revised is the incorrect statement and omission prohibitions that were proposed for §§ 3.405 and 402.5. This final rule aligns more closely with the language in 14 CFR 60.33(c) and 67.403(c) regarding incorrect statement prohibitions. This final rule narrows the scope of sanctions for incorrect statements or omissions to allow for an FAA action against the issuance (e.g., approval, acceptance, certificate) that is related to the material incorrect statement. The second change FAA made in this final rule as a result of public comment is the inclusion of a definition of “documents in any format.” The changes are discussed in more detail under “IV. Discussion of Comments and the Final Rule.”

IV. Discussion of Comments and the Final Rule

A. Revision of the Proposed “Incorrect Statement, or Omission” Prohibitions in Sections 3.405 and 402.5

In the NPRM, FAA proposed in §§ 3.405(a) and 402.5(a) to prohibit incorrect statements: “No person may make or cause to be made a material incorrect statement or omit or cause to be omitted a material fact, in” the documents described in §§ 3.405(a)(1)-(2) and 402.5(a)(1)-(2).¹⁰ Under the proposal, an incorrect statement under § 3.405(a)(1)-(2) and 402.5(a)(1)-(2) may serve as a basis for an FAA action against any issuance or grant.¹¹

A4A, AOPA, ALPA, ASA, MARPA, ARSA, and Aerospace Industries Association of Brazil recommended that FAA eliminate or limit the prohibition of unknowing or unintentional incorrect statements and omissions in proposed §§ 3.405 and 402.5. They commented that the proposed prohibitions would create a strict liability offense that would punish honest mistakes and create a chilling effect on the voluntary reporting of safety-related information. Likewise, one individual commented that sanctioning unintentional errors or omissions would make persons reluctant to report safety concerns. The organizational groups noted that the consequence of making an incorrect statement or causing such a statement to be made would be unduly harsh and overbroad because FAA could take action against certificates or other issuances that were not issued in reliance on the incorrect statement or omission. Similarly, ASA commented that §§ 3.405 and 402.5 made the proposed rule a “significant regulatory action” under E.O. 12866, because they “create a novel enforcement approach to incorrect statements by creating a strict liability enforcement mechanism for honest mistakes.”

FAA agrees that the proposed regulatory text regarding the incorrect statement and omission prohibition should be modified. In this final rule, FAA revises proposed §§ 3.405 and 402.5 to align more closely with the structure of 14 CFR 60.33(c) and 67.403(c) regarding incorrect statements. Regarding § 3.405, rather than proscribing incorrect statements as proposed in the NPRM, this final rule provides that an incorrect statement or omission of fact may serve as a basis for suspending, modifying, revoking, rescinding, removing, or withdrawing an acceptance, approval, authorization, certificate, rating, declaration, designation, qualification, or similar, or denying an application or request for reconsideration, or similar, issued or granted by the Administrator. This change prevents a strict liability application of sanctions for incorrect statements and omissions and instead allows FAA to take appropriate remedial action tailored to the circumstances surrounding the incorrect statement or omission. The final regulatory language of § 402.5 mirrors the above-referenced revision.

The revisions addressed in the preceding paragraph render moot ASA's statement that §§ 3.405 and 402.5 constitutes a “significant regulatory action” under E.O. 12866.

B. Non-Applicability of New §§ 3.403 and 3.405 to 14 CFR Chapter 1, Subchapter I

In the NPRM, FAA proposed § 3.403 to prohibit fraud and intentional falsification and, as noted above, § 3.405 to prohibit incorrect statements or omissions. Section 3.401 applied §§ 3.403 and 3.405 to 14 CFR chapter 1 as follows: “This subpart applies to any person subject to the requirements in subchapter A (except parts 1 and 3), subchapter C (except part 39), subchapter D, subchapter E (except parts 71 and 73), subchapter F (except parts 95 and 97), subchapter G (except part 110), subchapter H, and subchapter K (except parts 185, 187, 189 and 193), of this chapter.”

A4A stated that without adequate explanation, FAA excluded certain airport regulations from the applicability of § 3.401 in the proposed rule. The commenter explained that if the rulemaking were to standardize the existing falsification regulations, then it should apply to all aviation stakeholders, including those under 14 CFR chapter 1, subchapter I (“Airports”), which includes regulations that implicate aviation safety.

The FAA declines to expand the scope of the rule to all parts of 14 CFR chapter I or to subchapter I. The NPRM did not propose to include subchapter I, and stated that application of the falsification prohibition to subchapter I would constitute an unnecessary or unwarranted expansion of the falsification prohibition at this time.¹² Subchapter I contains regulatory parts that are subject to other Federal laws and requirements (e.g., Part 150, “Airport Noise Compatibility Planning”; Part 151, “Grants of Funds: General Policies”; Part 152, “Airport Aid Program”; Part 156, “State Block Grant Pilot Program”; and Part 158, “Passenger Facility Charges (PFC's)”). Therefore, FAA is not making changes in this final rule as a result of this comment, but will take these comments into consideration for potential future regulatory revisions.

C. Relationship Between the Revisions and FAA's Proposed Rulemaking, “Disclosure of Safety Critical Information”

A4A commented that “the FAA proposes to make unknowing material misstatements or unknowing omissions violations of the law” and questioned whether the proposal conflicted with FAA's planned “iterative application and reporting requirements” in the proposed rulemaking regarding “Disclosure of Safety Critical Information” (DOSCI), applicable to 14 CFR part 21.¹³ The proposal in the DOSCI NPRM would impose, as required by the Aircraft Certification, Safety, and Accountability Act (ACSAA), § 105(a) (codified at 49 U.S.C. 44704(e)), certain submittal and ongoing disclosure requirements of ACSAA § 105(a) on applicants and holders of type certificates (TC) respectively, including amended TCs for transport category airplanes covered by 14 CFR part 25.¹⁴

Currently, each applicant for a TC must show, and certify, that it has complied with the applicable requirements in accordance with 14 CFR 21.20. These requirements are unaffected by this final rule. Also, after issuing the TC, FAA may conduct a reinspection at any time under 49 U.S.C. 44709(a). Such a reinspection could be appropriate if, for example, an incorrect statement or omission called into question the validity of an applicant showing or certification under 14 CFR 21.20, or an FAA finding of compliance, and therefore the validity of the TC. Under such circumstances, FAA could seek to amend, modify, suspend, or revoke the certificate under § 44709(b) if safety in air commerce or air transportation and the public interest required that action. Such authority is unaffected by this rule.

The changes in this final rule to §§ 3.405 and 402.5 do not expand the consequences of material incorrect statements or omissions of material fact beyond what is currently allowed under the Administrator's reinspection/reexamination authority in 49 U.S.C. 44709. However, FAA acknowledges the possibility that its review of safety-critical information submitted by an applicant under the Congressionally mandated DOSCI proposal before certification could reveal material, but unintentional, incorrect statements or omissions of material fact. In such instances, FAA anticipates that the applicant or certificate holder would make necessary updates or corrections to show and certify compliance before FAA, or its designee, makes any findings and issues the TC. In any event, if FAA issued a certification and later discovered that an unintentional, incorrect statement or omission was material to the issuance, validity, or granting of that certification, FAA could take remedial action against the issued certificate under § 3.405 in the interest of aviation safety. The holder of the certificate at issue would be able to apply for a new certificate supported by corrected information.

In this final rule, FAA has changed §§ 3.405 and 402.5 to resolve the potential conflict between this falsification prohibition rulemaking and the requirements proposed by the DOSCI NPRM. The changes in this final rule limit the consequence of incorrect statements or omissions to an action against the acceptance, application approval, authorization, certificate, rating, declaration, designation, qualification, request for reconsideration, or similar, when the incorrect statement or omission was material to its issuance, validity, or grant.

D. Delineation of Specific Regulations in Part 3

In the NPRM, FAA proposed a new § 3.401, which would identify the applicable regulatory subchapters of 14 CFR chapter I affected by this rule, and certain exceptions. AOPA recommended that FAA “clearly delineate the specific regulations subject to the proposal rather than to cover the proposal with blanket applicability.” Similarly, ALPA stated that the proposal lacks “a comprehensive listing, or specific notice, of 14 CFR `record requirements,' ” which is “complicated by the expanded coverage and expanded sanctions” associated with the proposed regulatory text in the part 3 rule.¹⁵

FAA notes that proposed § 3.401 did not apply “blanket applicability,” but rather identified the applicable subchapters and the excepted parts of those subchapters. Thus, § 3.401 notifies the public as to which parts of 14 CFR this final rule applies. This final rule applies to the entirety of each regulatory part identified in § 3.401, just as the current falsification prohibitions in particular parts apply to those entire parts.

Regarding ALPA's comment, the final rule does not contain a comprehensive listing of “record requirements” in 14 CFR because the record requirements or documents that persons may submit, or that are kept, made, or used to show compliance, vary widely depending on the part. The falsification regulations as stated in this final rule cover the documents referenced in those specific parts. Therefore, the final rule covers, for example, the records or reports described previously in § 43.12(a)(1) that are required to be made, kept, or used to show compliance with any requirement under part 43. Similarly, it covers the applications for a certificate, rating, or authorization described previously in § 61.59(a)(1). FAA did not make any changes to § 3.401 based on this comment, and the section is adopted as proposed.

E. Definition of “Document in Any Format”

AOPA commented that proposed §§ 3.403 and 3.405 use “document” and “statement” as “terms of art” and as the sole descriptors of what may be falsified. ALPA also noted this language and concluded this will lead to confusion and unintentional noncompliance and asked FAA to revise the proposed language to include definitions for “document” and “statement” as those terms were not defined in the NPRM.

FAA agrees in part with the commenters. The proposal generally intended the ordinary definition of the terms “document” and “statement.” However, those terms are not the sole descriptors of what may be falsified. Rather, proposed §§ 3.403, 3.405, 402.3, and 402.5 contain a list of types of documents in which a person could make a false statement. In addition, the NPRM explained, and this final rule reiterates, that documents “in any format” include tangible formats such as a data plate or marked parts. Nonetheless, FAA has updated the final rule text in response to this comment by defining, in §§ 3.401 and 402.1, “document in any format” as including documents (electronic or physical), and other tangible items, such as data plates or marked parts.

F. Use of the Word “Any”

AOPA and an individual recommended that FAA revise the proposal to limit the use of the word “any.” AOPA encouraged “specificity in the regulatory text to foster an easily understandable regulatory scheme.” Additionally, AOPA opined that the frequency of the proposed use of “any” “creates confusion and fosters misunderstanding, leading to unintentional noncompliance and unintended consequences.”

FAA does not concur that limiting the use of “any” is necessary. The meaning and use of “any” is unambiguous and consistent with the use of that term in the falsification regulations that existed prior to this final rule. To illustrate, using 14 CFR 61.59 as a representative example, the language used in the prior falsification regulations included a prohibition of “any fraudulent or intentionally false statement on any application for a certificate, rating, authorization, or duplicate thereof, issued under this part.” ¹⁶ Likewise, the final rule, made applicable to part 61 through § 3.401 and read in conjunction with § 3.403, prohibits any fraudulent or intentionally false statement in any document consisting of any application submitted under part 61. Thus, the final rule as applied to part 61 (and the other applicable parts), and its use of the term “any” has the same intent, scope, and effect as it does under the prior falsification prohibitions. FAA made no changes to the rule as a result of this comment.

G. Whether It Is Necessary To Clarify in § 3.403(a) That Fraudulent Conduct Is Intentional

In the NPRM, FAA proposed new § 3.403(a), which would prohibit “any fraudulent or intentionally false statement . . . .” A4A recommended that FAA clarify § 3.403(a) by adding the mens rea element of “intentionally” before the word “fraudulent” to ensure that individuals lacking scienter are not inadvertently subject to this section.

FAA notes that adding a mens rea element before “fraudulent” would be redundant and, therefore, unnecessary. The traditional definition of fraud is well-established and includes intentional falsification as an element. Intentional falsification consists of (1) a false representation, (2) in reference to a material fact, and (3) made with knowledge of its falsity.¹⁷ The United States Supreme Court has identified that fraud consists of those three elements plus (4) the intent to deceive and (5) with action taken in reliance upon the representation.¹⁸ Since fraud includes knowledge of the false statement and the intent to deceive, adding a mens rea element before “fraudulent” is unnecessary. FAA made no changes to the rule as a result of this comment.

H. Applicability of the Final Rule to 14 CFR Part 68

An individual stated that FAA lacks statutory authority to issue falsification regulations applicable to the BasicMed provisions under 14 CFR part 68 because BasicMed does not involve the issuance of a certificate. The commenter also stated that 18 U.S.C. 1001 and the affirmations required by BasicMed in the FAA Extension, Safety, and Security Act of 2016, Public Law 114-190 (FESSA) in connection with the Comprehensive Medical Examination Checklist (CMEC) and Medical Education Course are sufficient substitutes for falsification regulations that would apply to the BasicMed regulations of 14 CFR part 68.

FAA is authorized to issue falsification regulations applicable to 14 CFR part 68. The FAA's authority under 49 U.S.C. 44701 is not limited to the issuance of certificates. Rather, FAA has broad authority under § 44701(a)(5) to issue “regulations and minimum standards for cybersecurity and other practices, methods, and procedures the Administrator finds necessary for safety in air commerce and national security.” Such regulations include longstanding falsification prohibitions, and this final rule applies a falsification prohibition appropriately to part 68 through § 3.401 as read in conjunction with § 3.403.

FAA has determined that the affirmations of truthfulness and completion required in FESSA § 2307(b) regarding completion of the CMEC are insufficient substitutes for falsification regulations in 14 CFR part 68.¹⁹ FAA's determination is based on its experience addressing persistent instances of falsification throughout the years, including falsification of a similar certification statement in an FAA application for an airman medical certificate affirming that the airman has provided accurate and complete information.

Similarly, criminal falsification prohibitions under 18 U.S.C § 1001 are an insufficient substitute for administrative falsification prohibitions. Indeed, FAA acknowledged as much by implementing the earliest falsification regulations in 1964 under the Federal Aviation Act of 1958.²⁰ At that time, criminal penalties for falsification had been in effect under the Civil Aeronautics Act of 1938, § 902(e) (Act of 1938). However, the Act of 1938 authorized no administrative sanction for falsification, and the Civil Aviation Regulations implemented under the Act of 1938 contained no falsification regulations. FAA issued the earliest falsification regulations, which allow FAA to take appropriate action in the civil or administrative context when a person lacks the care, judgment, and responsibility to hold a certificate to cure this gap. Application of this final rule to part 68 through § 3.401, and read in conjunction with § 3.403, prohibits directly the falsification of medical education course certifications, comprehensive medical exam checklist certifications, and additional information submitted under § 68.11. The sanction for such falsifications is certificate action against the part 61 and, if applicable, part 67 certificates. No changes were made to the rule as a result of this comment.

I. Applicability of the Final Rule to Statements Made on FAA Form 8130-3

In the NPRM, FAA proposed §§ 402.1, 402.3, and 402.5, which would apply a falsification prohibition to 14 CFR chapter 3, subchapter C, and provide a means for addressing incorrect statements. ASA indicated that a civil penalty against a person resulting from an alleged violation of §§ 402.3(c) or 402.5 based on a failure to include information in the “Remarks” section of an FAA Form 8130-3, Authorized Release Certificate, Airworthiness Approval Tag (an “8130-3 tag”), may violate the Paperwork Reduction Act (PRA) when the omitted information is of the type recommended in FAA Order 8130.21H, “Procedures for Completion and Use of the Authorized Release Certificate, FAA Form 8130-3, Airworthiness Approval Tag,” which is not an information collection that has been subject to OMB controls, and thus is advisory only.²¹

There is no new requirement for information collection associated with this final rule. FAA made no change to the rule as a result of this comment.

J. Technical Amendment to 14 CFR 3.1

Although not related directly to the falsification regulations in the NPRM and this final rule, FAA amends § 3.1(a) by changing “part” to “subpart.” This technical amendment was necessary, but not accomplished, when FAA in 2019 added the security threat disqualification regulations at §§ 3.200 and 3.205.²² Before FAA implemented those regulations, part 3 consisted solely of §§ 3.1 and 3.5. With the implementation of §§ 3.200 and 3.205, FAA divided part 3 into Subpart A, consisting of §§ 3.1 and 3.5, and Subpart B, consisting of §§ 3.200 and 3.205. After FAA divided part 3 into two subparts, it became necessary for § 3.1 (“Applicability”) to apply to subpart A rather than part 3 as a whole. Therefore, in this final rule FAA has changed “part” to “subpart” in § 3.1(a).

V. Regulatory Notices and Analyses

A. Regulatory Evaluation

E.O. 12866 (“Regulatory Planning and Review”) and E.O. 13563 (“Improving Regulation and Regulatory Review”) require agencies to regulate in the “most cost-effective manner,” to make “a reasoned determination that the benefits of the intended regulation justify its costs,” and to develop regulations that “impose the least burden on society.” The Office of Management and Budget has determined that this rule is not a “significant regulatory action” as defined in section (3)(f)(1) of E.O. 12866.

On February 8, 2024, FAA published an NPRM (89 FR 8560). FAA received comments from eight industry associations and five individuals in response to the NPRM. None of the comments expressed concerns with the economic impacts of the proposal. Therefore, the following regulatory evaluation has no changes from the regulatory evaluation provided in the NPRM.

1. Need for the Regulation

Falsification regulations promote aviation and commercial space safety by incentivizing the provision of accurate and truthful information to FAA. The final rule enhances aviation safety by standardizing and extending the scope of conduct proscribed by falsification regulations that FAA intends to deter across all the applicable sections of 14 CFR. The final rule also standardizes sanction provisions for this conduct and allows for more consistent sanction determinations as appropriate.

2. Benefits

The final rule benefits the safety of the public by ensuring that information made, kept, or used to show compliance with regulatory requirements or provided to FAA is accurate and complete. The final rule also benefits private industry by standardizing sanction provisions and providing consistent sanction determinations. Additional benefits to private industry include a more reliable aviation system.

3. Costs

FAA has evaluated the cost impacts to the stakeholders involved in this final rule. FAA does not anticipate any new cost impact to industry and FAA anticipates minor administrative cost savings because the consolidation of the various prohibitions in one part creates efficiencies for both industry and FAA by eliminating the inconsistencies that exist in the current regulations and associated sanctions and centralizing the prohibition in one location.

4. Regulatory Alternatives

FAA considered no action as an alternative to this rulemaking. However, taking no action would not achieve the needed harmonization and consolidation of the falsification regulations and standardization of the scope of conduct proscribed by falsification regulations.

5. Conclusion

FAA has, therefore, determined that this final rule has no new costs, but positive benefits due to the consolidation of these regulations. This rule is not a “significant regulatory action” as defined in section 3(f) of E.O. 12866 and is not “significant” as defined in DOT's Regulatory Policies and Procedures. This rule is an E.O. 14192 deregulatory action because it has total costs less than zero.

B. Regulatory Flexibility Act

The Regulatory Flexibility Act of 1980, 5 U.S.C. 601-612 (Pub. L. 96-354, 94 Stat. 1164, Sept. 19, 1980), as amended by the Small Business Regulatory Enforcement Fairness Act of 1996 (Pub. L. 104-121, 110 Stat. 857, Mar. 29, 1996) and the Small Business Jobs Act of 2010 (Pub. L. 111-240, 124 Stat. 2504 Sept. 27, 2010), requires Federal agencies to consider the effects of the regulatory action on small businesses and other small entities and to minimize any significant economic impact. The term “small entities” comprises small businesses and not-for-profit organizations that are independently owned and operated and are not dominant in their fields and governmental jurisdictions with populations of less than 50,000.

FAA has not identified any small entities that will be affected by the rule because this standardization of the scope of conduct proscribed by falsification regulations does not add any new costs to regulated entities. Therefore, FAA certifies that the final rule will not have a significant economic impact on small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. FAA has determined that this final rule is not considered an unnecessary obstacle to trade.

FAA has assessed the potential effect of this final rule and determined its objective is to ensure the safety of the American public and it does not exclude imports that meet this objective. As a result, FAA does not consider this final rule as creating an unnecessary obstacle to foreign commerce.

D. Unfunded Mandates Assessment

The Unfunded Mandates Reform Act of 1995 (2 U.S.C. 1531-1538) governs the issuance of Federal regulations that require unfunded mandates. An unfunded mandate is a regulation that requires a State, local, or Tribal government or the private sector to incur direct costs without the Federal Government having first provided the funds to pay those costs. FAA determined this final rule will not result in the expenditure of $183 million or more by State, local, or Tribal governments, in the aggregate, or the private sector, in any one year.

E. Paperwork Reduction Act

The Paperwork Reduction Act of 1995 (44 U.S.C. 3507(d)) requires that FAA consider the impact of paperwork and other information collection burdens imposed on the public. FAA has determined there is no new requirement for information collection associated with this final rule.

F. International Compatibility

In keeping with U.S. obligations under the Convention on International Civil Aviation, it is FAA policy to conform to International Civil Aviation Organization (ICAO) Standards and Recommended Practices to the maximum extent practicable. FAA has determined there are no ICAO Standards and Recommended Practices that correspond to these regulations.

G. Environmental Analysis

The Department has analyzed the environmental impacts of this final rule pursuant to the National Environmental Policy Act of 1969 (NEPA) (42 U.S.C. 4321 et seq.). FAA has determined that this rule is categorically excluded pursuant to FAA Order 1050.1G. Categorical exclusions are categories of actions that the agency has determined normally do not significantly affect the quality of the human environment and therefore do not require either an environmental assessment (EA) or environmental impact statement (EIS). See DOT Order 5610.1D § 9. In analyzing the applicability of a categorical exclusion, the agency must also consider whether extraordinary circumstances are present that would warrant the preparation of an EA or EIS. Id. § 9(b). This rulemaking, which amends, restructures, and consolidates the falsification regulations presently located throughout title 14 of the CFR, is categorically excluded pursuant to appendix B-2.6(f) of the FAA Order: “Regulations, standards, and exemptions (excluding those that if implemented may cause a significant impact on the human environment).” FAA does not anticipate any environmental impacts, and there are no extraordinary circumstances present in connection with this rulemaking.

VI. E.O. Determinations

A. E.O. 13132, Federalism

FAA has analyzed this final rule under the principles and criteria of E.O. 13132, Federalism. FAA has determined this action will not have a substantial direct effect on the States, or the relationship between the Federal Government and the States, or on the distribution of power and responsibilities among the various levels of government, and, therefore, will not have federalism implications.

B. E.O. 13175, Consultation and Coordination With Indian Tribal Governments

Consistent with E.O. 13175, Consultation and Coordination with Indian Tribal Governments, and FAA Order 1210.20, American Indian and Alaska Native Tribal Consultation Policy and Procedures, FAA ensures that Federally Recognized Tribes (Tribes) are given the opportunity to provide meaningful and timely input regarding proposed Federal actions that have the potential to have substantial direct effects on one or more Tribes, on the relationship between the Federal Government and Tribes, or on the distribution of power and responsibilities between the Federal Government and Tribes; or to affect uniquely or significantly their respective Tribes. At this point, FAA has not identified any unique or significant effects, environmental or otherwise, on Tribes resulting from this final rule.

C. E.O. 13211, Regulations That Significantly Affect Energy Supply, Distribution, or Use

FAA analyzed this final rule under E.O. 13211, Actions Concerning Regulations that Significantly Affect Energy Supply, Distribution, or Use (May 18, 2001). FAA has determined that it is not a “significant energy action” under the E.O. and is not likely to have a significant adverse effect on the supply, distribution, or use of energy.

D. E.O. 13609, Promoting International Regulatory Cooperation

E.O. 13609, Promoting International Regulatory Cooperation, promotes international regulatory cooperation to meet shared challenges involving health, safety, labor, security, environmental, and other issues and to reduce, eliminate, or prevent unnecessary differences in regulatory requirements. FAA has analyzed this action under the policies and agency responsibilities of E.O. 13609 and has determined this action will have no effect on international regulatory cooperation.

VII. Additional Information

A. Electronic Access and Filing

A copy of the NPRM, all comments received, this final rule, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.govinfo.gov. A copy may also be found at FAA's Regulations and Policies website at www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents FAA considered in developing this final rule, including economic analyses and technical reports, may be accessed in the electronic docket for this rulemaking.

B. Small Business Regulatory Enforcement Fairness Act

The Small Business Regulatory Enforcement Fairness Act of 1996 (Pub. L. 104-121, 110 Stat. 857, Mar. 29, 1996) requires FAA to comply with small entity requests for information or advice about compliance with statutes and regulations within its jurisdiction. A small entity with questions regarding this document may contact its local FAA official, or the person listed under the FOR FURTHER INFORMATION CONTACT heading at the beginning of the preamble. To find out more about SBREFA on the internet, visit www.faa.gov/regulations_policies/rulemaking/sbre_act/.

Endnotes

¹ Subpart A of part 3 uniquely proscribes fraudulent and intentionally false statements and misleading statements when conveying information related to an advertisement or sales transaction. See 14 CFR 3.1 and 3.5. Subpart A is unaffected by this rulemaking.

² 89 FR 8560.

³ 89 FR 8561.

⁴ Id. at 8562.

⁵ Id.

⁶ 14 CFR 111.35.

⁷ Id. at 8562.

⁸ Id. at 8566.

⁹ Id.

¹⁰ The documents described in § 3.405(a)(1)-(2) are: “(1) Any document in any format, submitted under any provision referenced in § 3.401, consisting of or related to any acceptance, application, approval, authorization, certificate, rating, declaration, designation, qualification, record, report, request for reconsideration, or similar; or (2) Any document in any format that is kept, made, or used to show compliance with any requirement under the provisions referenced in § 3.401.”

The documents described in § 402.5(a)(1) are: “(1) Any document in any format, submitted under any provision referenced in § 402.1, consisting of or related to any acceptance, application, approval, authorization, permit, license, waiver, record, report, or similar; or (2) Any document in any format that is kept, made, or used to show compliance with any requirement under the provisions referenced in § 402.1.”

¹¹ Under § 3.405(b), a material incorrect statement, or omission of a material fact, in any document described in § 3.405(a)(1) and (2) may serve as a basis for denying, suspending, modifying, revoking, rescinding, removing, or withdrawing any acceptance, application, approval, authorization, certificate, rating, declaration, designation, qualification, request for reconsideration, or similar, issued or granted by the Administrator and held by that person.

Under § 402.5(b), a material incorrect statement, or omission of a material fact, in a document described in § 402.5(a)(1) and (2) may serve as a basis for denying, suspending, modifying, revoking, rescinding, removing, or withdrawing any acceptance, application, approval, authorization, permit, license, waiver, or similar, issued or granted by the Administrator and held by that person.

¹² 89 FR 8568.

¹³ 89 FR 4841 (Jan. 25, 2024).

¹⁴ Id. at 4846.

¹⁵ ALPA cited “record requirements” as that term appeared in the NPRM at 89 FR 8567.

¹⁶ 14 CFR 61.59(a)(1).

¹⁷ Hart v. McLucas, 535 F.2d 516, 519 (9th Cir. 1976).

¹⁸ Pence v. United States, 316 U.S. 332, 338 (1942).

¹⁹ Under FESSA § 2307(b)(2)(A)(ii), the CMEC shall contain . . . “a signature line for the individual to affirm that—(I) the answers provided by the individual on that checklist, including the individual's answers regarding medical history, are true and complete; (II) the individual understands that he or she is prohibited under Federal Aviation Administration regulations from acting as pilot in command, or any other capacity as a required flight crew member, if he or she knows or has reason to know of any medical deficiency or medically disqualifying condition that would make the individual unable to operate the aircraft in a safe manner; and (III) the individual is aware of the regulations pertaining to the prohibition on operations during medical deficiency and has no medically disqualifying conditions in accordance with applicable law.”

²⁰ 29 FR 4919 (Apr. 8, 1964).

²¹ Under proposed § 402.3(c), “No person may knowingly omit or cause to be omitted a material fact in: (1) Any document in any format, submitted under any provision referenced in § 402.1, consisting of or related to any acceptance, application, approval, authorization, permit, license, waiver, record, report, or similar; or (2) Any document in any format that is kept, made, or used to show compliance with any requirement under the provisions referenced in § 402.1.”

²² 84 FR 42803 (Aug. 19, 2019).

²³ 65 FR 67249 (Nov. 6, 2000).

²⁴ FAA Order No. 1210.20 (Jan. 28, 2004), available at www.faa.gov/documentLibrary/media/1210.pdf.

List of Subjects

14 CFR Part 3

Aircraft, Aviation safety, Fraud.

14 CFR Part 21

Aircraft, Aviation safety, Exports, Imports, Reporting and recordkeeping requirements.

14 CFR Part 43

Aircraft, Aviation safety, Reporting and recordkeeping requirements.

14 CFR Part 60

Airmen, Aviation safety, Reporting and recordkeeping requirements.

14 CFR Part 61

Airmen, Alcohol abuse, Aviation safety, Drug abuse, Recreation and recreation areas, Reporting and recordkeeping requirements, Security measures, Teachers.

14 CFR Part 63

Aircraft, Airmen, Alcohol abuse, Aviation safety, Drug abuse, Navigation (air), Reporting and recordkeeping requirements, Security measures.

14 CFR Part 65

Air traffic controllers, Aircraft, Airmen, Airports, Alcohol abuse, Aviation safety, Drug abuse, Reporting and recordkeeping requirements, Security measures.

14 CFR Part 67

Airmen, Authority delegations (Government agencies), Health, Reporting and recordkeeping requirements.

14 CFR Part 89

Air traffic control, Aircraft, Airmen, Aviation safety, Reporting and recordkeeping requirements, Security measures.

14 CFR Part 107

Aircraft, Airmen, Aviation safety, Reporting and recordkeeping requirements, Security measures.

14 CFR Part 111

Administrative practice and procedure, Air carriers, Air operators, Air taxis, Aircraft, Airmen, Alcohol abuse, Aviation safety, Charter flights, Drug abuse, Public aircraft, Reporting and recordkeeping requirements.

14 CFR Part 120

Air carriers, Air traffic controllers, Airmen, Alcohol abuse, Alcoholism, Aviation safety, Drug abuse, Drug testing, Reporting and recordkeeping requirements, Safety, Transportation.

14 CFR Part 121

Air carriers, Aircraft, Airmen, Alcohol abuse, Aviation safety, Charter flights, Drug abuse, Drug testing, Reporting and recordkeeping requirements, Safety, Transportation.

14 CFR Part 139

Air carriers, Aircraft, Airports, Aviation safety, Reporting and recordkeeping requirements.

14 CFR Part 142

Aircraft, Airmen, Aviation safety, Educational facilities, Reporting and recordkeeping requirements, Schools, Students, Teachers.

14 CFR Part 145

Aircraft, Aviation safety, Reporting and recordkeeping requirements.

14 CFR Part 402

Fraud, Reporting and recordkeeping requirements, Rockets, Safety, Space transportation and exploration.

14 CFR Part 413

Confidential business information, Reporting and recordkeeping requirements, Rockets, Safety, Space transportation and exploration.

The Amendment

For the reasons discussed in the preamble, the Federal Aviation Administration amends 14 CFR parts 3, 21, 43, 60, 61, 63, 65, 67, 89, 107, 111, 120, 121, 139, 142, 145, 402, and 413 as follows:

PART 3—GENERAL REQUIREMENTS

1. The authority citation for part 3 is revised to read as follows:

Authority: 49 U.S.C. 106(f), 40113, 44701-44709, 46111, 46103 and 46301.

2. Revise § 3.1(a) introductory text to read as follows:

§ 3.1 Applicability.

(a) This subpart applies to any person who makes a record regarding:

* * * * *

3. Add subpart D, consisting of §§ 3.401, 3.403, and 3.405, to read as follows:

Subpart D—Falsification, Reproduction, Alteration, Omission, or Incorrect Statements

Sec.
3.401 Applicability and definitions.
3.403 Falsification, reproduction, alteration, or omission.
3.405 Incorrect statement or omission.

§ 3.401 Applicability and definitions.

(a) This subpart applies to any person subject to the requirements in subchapter A (except parts 1 and 3), subchapter C (except part 39), subchapter D, subchapter E (except parts 71 and 73), subchapter F (except parts 95 and 97), subchapter G (except part 110), subchapter H, and subchapter K (except parts 185, 187, 189, and 193), of this chapter.

(b) For purposes of this part, “document in any format” includes documents (electronic or physical), and also other tangible items, such as data plates or marked parts.

§ 3.403 Falsification, reproduction, alteration, or omission.

(a) No person may make or cause to be made any fraudulent or intentionally false statement in:

(1) Any document in any format, submitted under any provision referenced in § 3.401, consisting of or related to any acceptance, application, approval, authorization, certificate, rating, declaration, designation, qualification, record, report, request for reconsideration, or similar; or

(2) Any document in any format that is kept, made, or used to show compliance with any requirement under the provisions referenced in § 3.401.

(b) No person may make or cause to be made any production, reproduction, or alteration, for fraudulent purpose, of:

(1) Any document in any format, submitted or granted under any provision referenced in § 3.401, consisting of or related to any acceptance, application, approval, authorization, certificate, rating, declaration, designation, qualification, record, report, request for reconsideration, or similar; or

(2) Any document in any format that is kept, made, or used to show compliance with any requirement under the provisions referenced in § 3.401.

(c) No person may knowingly omit, or cause to be omitted, a material fact in:

(1) Any document in any format, submitted under any provision referenced in § 3.401, consisting of or related to any acceptance, application, approval, authorization, certificate, rating, declaration, designation, qualification, record, report, request for reconsideration, or similar; or

(2) Any document in any format that is kept, made, or used to show compliance with any requirement under the provisions referenced in § 3.401.

(d) The commission by any person of an act prohibited under paragraphs (a) through (c) of this section is a basis for:

(1) Denying, suspending, modifying, revoking, rescinding, removing, or withdrawing any acceptance, application, approval, authorization, certificate, rating, declaration, designation, qualification, request for reconsideration, or similar, issued or granted by the Administrator and held by that person; or

(2) A civil penalty.

§ 3.405 Incorrect statement or omission

(a) The following may serve as a basis for suspending, modifying, revoking, rescinding, removing, or withdrawing an acceptance, approval, authorization, certificate, rating, declaration, designation, qualification, or similar, or denying an application or request for reconsideration, or similar, issued or granted by the Administrator:

(1) An incorrect statement or omission of fact by any person, in or from any document in any format, submitted under any provision referenced in § 3.401, that was material to the issuance, validity, or granting of that acceptance, application, approval, authorization, certificate, rating, declaration, designation, qualification, request for reconsideration, or similar; or

(2) An incorrect statement or omission of fact by any person, in or from any document in any format that is kept, made, or used to show compliance with any requirement under the provisions referenced in § 3.401, that was material to the issuance, validity, or granting of that acceptance, approval, authorization, certificate, rating, declaration, designation, qualification, request for reconsideration, or similar.

(b) [RESERVED].

PART 21—CERTIFICATION PROCEDURES FOR PRODUCTS AND ARTICLES

4. The authority citation for part 21 is revised to read as follows:

Authority: 42 U.S.C. 7572; 49 U.S.C. 106(f), 40105, 40113, 44701-44702, 44704, 44707, 44709, 44711, 44713, 44715, 45303.

§ 21.2 [Removed and reserved]

5. Remove and reserve § 21.2.

PART 43—MAINTENANCE, PREVENTIVE MAINTENANCE, REBUILDING, AND ALTERATION

6. The authority citation for part 43 is revised to read as follows:

Authority: 42 U.S.C. 7572; 49 U.S.C. 106(f), 40105, 40113, 44701-44702, 44704, 44707, 44709, 44711, 44713, 44715, 45303.

§ 43.12 [Removed and reserved]

7. Remove and reserve § 43.12.

PART 60—FLIGHT SIMULATION TRAINING DEVICE INITIAL AND CONTINUING QUALIFICATION AND USE

8. The authority citation for part 60 is revised to read as follows:

Authority: 49 U.S.C. 106(f), 40113, and 44701; Pub. L. 111-216, 124 Stat. 2348 (49 U.S.C. 44701 note).

§ 60.33 [Removed and Reserved]

9. Remove and reserve § 60.33.

Appendix A to Part 60 [Amended]

10. In Appendix A to part 60:

a. In the table of contents, remove and reserve entry 22., and

b. Remove and reserve section “22. Applications, Logbooks, Reports, and Records: Fraud, Falsification, or Incorrect Statements (§ 60.33)”

Appendix B to Part 60 [Amended]

11. In Appendix B to part 60:

a. In the table of contents, remove and reserve entry 22., and

b. Remove and reserve section “22. Applications, Logbooks, Reports, and Records: Fraud, Falsification, or Incorrect Statements (§ 60.33).”

Appendix C to Part 60 [Amended]

12. In Appendix C to part 60:

a. In the table of contents, remove and reserve entry 22., and

b. Remove and reserve section “22. Applications, Logbooks, Reports, and Records: Fraud, Falsification, or Incorrect Statements (§ 60.33).”

Appendix D to Part 60 [Amended]

13. In Appendix D to part 60:

a. In the table of contents, remove and reserve entry 22., and

b. Remove and reserve section “22. Applications, Logbooks, Reports, and Records: Fraud, Falsification, or Incorrect Statements (§ 60.33).”

PART 61—CERTIFICATION: PILOTS, FLIGHT INSTRUCTORS, AND GROUND INSTRUCTORS

14. The authority citation for part 61 is revised to read as follows:

Authority: 49 U.S.C. 106(f), 40113, 44701-44703, 44707, 44709-44711, 44729, 44903, 45102-45103, 45301-45302.

§ 61.59 [Removed and Reserved]

15. Remove and reserve § 61.59.

PART 63—CERTIFICATION: FLIGHT CREWMEMBERS OTHER THAN PILOTS

16. The authority citation for part 63 is revised to read as follows:

Authority: 49 U.S.C. 106(f), 40113, 44701-44703, 44707, 44709-44711, 45102-45103, 45301-45302.

§ 63.20 [Removed and Reserved]

17. Remove and reserve § 63.20.

PART 65—CERTIFICATION: AIRMEN OTHER THAN FLIGHT CREWMEMBERS

18. The authority citation for part 65 continues to read as follows:

Authority: 49 U.S.C. 106(f), 40113, 44701-44703, 44707, 44709-44711, 45102-45103, 45301-45302.

§ 65.20 [Removed and Reserved]

19. Remove and reserve § 65.20.

PART 67—MEDICAL STANDARDS AND CERTIFICATION

20. The authority citation for part 67 is revised to read as follows:

Authority: 49 U.S.C. 106(f), 40113, 44701-44703, 44707, 44709-44711, 45102-45103, 45301-45303.

21. Revise § 67.401(f)(5) to read as follows:

§ 67.401 Special issuance of medical certificates.

* * * * *

(f) * * *

(5) The holder makes or causes to be made a statement that is the basis for withdrawal of an Authorization, including a SODA, under subpart D of part 3 of this chapter.

* * * * *

§ 67.403 [Removed and Reserved]

22. Remove and reserve § 67.403.

PART 89—REMOTE IDENTIFICATION OF UNMANNED AIRCRAFT

23. The authority citation for part 89 is revised to read as follows:

Authority: 49 U.S.C. 106(f), 40101(d), 40103(b), 44701, 44805, 44809(f); Section 2202 of Pub. L. 114-190, 130 Stat. 629.

§ 89.5 [Removed and Reserved]

24. Remove and reserve § 89.5.

PART 107—SMALL UNMANNED AIRCRAFT SYSTEMS

25. The authority citation for part 107 continues to read as follows:

Authority: 49 U.S.C. 106(f), 40101 note, 40103(b), 44701(a)(5), 46105(c), 46110, 44807.

§ 107.5 [Removed and Reserved]

26. Remove and reserve § 107.5.

PART 111—PILOT RECORDS DATABASE

27. The authority citation for part 111 is revised to read as follows:

Authority: 49 U.S.C. 106(f), 40101, 40113, 44701, 44703, 44711, 46105, 46301.

§ 111.35 [Removed and Reserved]

28. Remove and reserve § 111.35.

PART 120—DRUG AND ALCOHOL TESTING PROGRAM

29. The authority citation for part 120 is revised to read as follows:

Authority: 49 U.S.C. 106(f), 40101-40103, 40113, 40120, 41706, 41721, 44106, 44701, 44702, 44703, 44709, 44710, 44711, 45101-45105, 46105, 46306.

§ 120.103 [Removed and Reserved]

30. Remove § 120.103.

§ 120.213 [Removed and Reserved]

31. Remove and reserve § 120.213.

PART 121—OPERATING REQUIREMENTS: DOMESTIC, FLAG, AND SUPPLEMENTAL OPERATIONS

32. The authority citation for part 121 is revised to read as follows:

Authority: 49 U.S.C. 106(f), 40103, 40113, 40119, 41706, 42301 preceding note added by Pub. L. 112-95, sec. 412, 126 Stat. 89, 44101, 44701-44702, 44705, 44709-44711, 44713, 44716-44717, 44722, 44729, 44732; 46105; Pub. L. 111-216, 124 Stat. 2348 (49 U.S.C. 44701 note); Pub. L. 112-95, 126 Stat. 62 (49 U.S.C. 44732 note); Pub. L. 115-254, 132 Stat. 3186 (49 U.S.C. 44701 note).

§ 121.9 [Removed and Reserved]

33. Remove and reserve § 121.9.

PART 139—CERTIFICATION OF AIRPORTS

34. The authority citation for part 139 is revised to read as follows:

Authority: 49 U.S.C. 106(f), 40113, 44701-44706, 44709, 44719, 47175.

§ 139.115 [Removed and Reserved]

35. Remove and reserve § 139.115.

PART 142—TRAINING CENTERS

36. The authority citation for part 142 is revised to read as follows:

Authority: 49 U.S.C. 106(f), 40113, 40119, 44101, 44701-44703, 44705, 44707, 44709-44711, 45102-45103, 45301-45302.

§ 142.11 [Removed and Reserved]

37. Remove and reserve § 142.11.

PART 145—REPAIR STATIONS

38. The authority citation for part 145 is revised to read as follows:

Authority: 49 U.S.C. 106(f), 40113, 44701-44702, 44707, 44709, 44717.

§ 145.12 [Removed and Reserved]

39. Remove and reserve § 145.12.

40. Add part 402 to subchapter A to read as follows:

PART 402—GENERAL REQUIREMENTS

Sec.
402.1 Applicability and definitions.
402.3 Falsification, reproduction, alteration, or omission.
402.5 Incorrect statement or omission.

Authority: 51 U.S.C. 50101-50923.

§ 402.1 Applicability and definitions.

(a) This part applies to any person subject to the requirements in subchapter C of this chapter.

(b) For purposes of this part, “document in any format” includes documents (electronic or physical), and also other tangible items, such as data plates or marked parts.

§ 402.3 Falsification, reproduction, alteration, or omission.

(a) No person may make or cause to be made any fraudulent or intentionally false statement in:

(1) Any document in any format, submitted under any provision referenced in § 402.1 of this part, consisting of or related to any acceptance, application, approval, authorization, permit, license, waiver, record, report, or similar; or

(2) Any document in any format that is kept, made, or used to show compliance with any requirement under the provisions referenced in § 402.1.

(b) No person may make or cause to be made any production, reproduction, or alteration, for fraudulent purpose, of:

(1) Any document in any format, submitted or granted under any provision referenced in § 402.1, consisting of or related to any acceptance, application, approval, authorization, permit, license, waiver, record, report, or similar; or

(2) Any document in any format that is kept, made, or used to show compliance with any requirement under the provisions referenced in § 402.1.

(c) No person may knowingly omit or cause to be omitted a material fact in:

(1) Any document in any format, submitted under any provision referenced in § 402.1, consisting of or related to any acceptance, application, approval, authorization, permit, license, waiver, record, report, or similar; or

(2) Any document in any format that is kept, made, or used to show compliance with any requirement under the provisions referenced in § 402.1.

(d) The commission by any person of an act prohibited under paragraphs (a) through (c) of this section is a basis for:

(1) Denying, suspending, modifying, revoking, rescinding, removing, or withdrawing any acceptance, application, approval, authorization, permit, license, waiver, or similar, issued or granted by the Administrator and held by that person; or

(2) A civil penalty.

§ 402.5 Incorrect statement or omission.

(a) The following may serve as a basis for suspending, modifying, revoking, rescinding, removing, withdrawing, or denying an acceptance, application, approval, authorization, permit, license, waiver, or similar, issued or granted by the Administrator:

(1) An incorrect statement or omission of fact, by any person, in or from any document in any format, submitted under any provision referenced in § 402.1, that was material to the issuance, validity, or granting of that acceptance, application, approval, authorization, permit, license, waiver, or similar; or

(2) An incorrect statement or omission of a material fact by any person, in or from any document in any format that is kept, made, or used to show compliance with any requirement under the provisions referenced in § 402.1, that was material to the issuance, validity, or granting of that acceptance, application, approval, authorization, permit, license, waiver, or similar.

(b) [RESERVED].

PART 413—LICENSE APPLICATION PROCEDURES

41. The authority citation for part 413 continues to read as follows:

Authority: 51 U.S.C. 50901-50923.

§ 413.17 [Removed and Reserved]

42. Remove and reserve § 413.17.

Issued under authority provided by 49 U.S.C. 106(f), 40113, 44701-44709, 46111, 46103, and 46301, in Washington, DC.
Bryan K. Bedford,
Administrator.

[FR Doc. 2025-16902 Filed 9-2-25; 8:45 am]

BILLING CODE 4910-13-P